DEPARTMENT OF THE INTERIOR

Bureau of Land Management

[15X L1109AF LLUTC03000.161000000.DP0000.LXSS004J0000 24-1A]

Notice of Availability of the Draft Resource Management Plans for the Beaver Dam Wash and Red Cliffs National Conservation Areas; a Draft Amendment to the St. George Field Office Resource Management Plan; and Draft Environmental Impact Statement, Utah

AGENCY: Bureau of Land Management, Interior.

ACTION: Notice of availability.

SUMMARY: In accordance with the National Environmental Policy Act (NEPA) of 1969, as amended, the Federal Land Policy and Management Act of 1976, as amended, and the Omnibus Public Lands Management Act of 2009, the Bureau of Land Management (BLM) has prepared Draft Resource Management Plans (RMPs) for the Beaver Dam Wash National Conservation Area and the Red Cliffs National Conservation Area and a Draft Amendment to the St. George Field Office RMP. The three planning efforts were initiated concurrently and are supported by a single Environmental Impact Statement (EIS). By this notice; the BLM announces the opening of the public comment period.

DATES: To ensure that comments will be considered, the BLM must receive written comments on the Draft RMPs/Draft RMP Amendment and Draft EIS within 90 days following the date that the Environmental Protection Agency publishes its Notice of Availability of the Draft RMPs/Draft RMP Amendment and Draft EIS in the Federal Register. The BLM will announce future meetings or hearings and any other public participation activities at least 15 days in advance through public notices, media releases, and/or mailings.

ADDRESSES: You may submit comments related to the Draft RMPs/Draft RMP Amendment and Draft EIS by any of the following methods:

• Email: utsgrmp@blm.gov.

• Fax: 435-688-3252.

• Mail: St. George Field Office, Bureau of Land Management, 345 East Riverside Drive, St. George, Utah 84790.

Copies of the Draft RMPs/Draft RMP Amendment and Draft EIS are available in the BLM St. George Field Office, at the above address and the BLM Utah State Office Public Room, 440 West 200 South, Suite 500, Salt Lake City, Utah 84101 during business hours (8:00 a.m. to 4:30 p.m.), Monday through Friday, except holidays. The Draft RMPs/Draft RMP Amendment and Draft EIS is also available on the following Web site: http://www.blm.gov/ut/st/en/fo/st_george.html.

FOR FURTHER INFORMATION CONTACT: Keith Rigtrup, RMP Planner, telephone 435-865-3000; address: 345 East Riverside Drive, St. George, Utah 84790; email: krigtrup@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The purpose of this planning process is to satisfy specific mandates from the Omnibus Public Land Management Act of 2009 (Pub. L. 111-11, at Title 1, Subtitle O, hereinafter OPLMA) that directed the Secretary of the Interior, through the BLM, to develop comprehensive management plans for the Beaver Dam Wash National Conservation Area (63,480 acres of public land) and the Red Cliffs National Conservation Area (44,859 acres of public land), located in Washington County, Utah. Both National Conservation Areas (NCAs) were established on March 30, 2009, when President Barack Obama signed OPLMA into law. The decisions contained within the Draft RMPs/Draft EIS do not pertain to private and State lands within the boundaries of the NCAs.

The need to amend the St. George Field Office RMP (approved in 1999) is also derived from OPLMA. Section 1979 (a)(1) and (2) directed the Secretary, through the BLM, to identify areas located in the County where biological conservation is a priority; and undertake activities to conserve and restore plant and animal species and natural communities within such areas. The administrative designation of new areas of critical environmental concern (ACECs) to provide special management attention to biological resources, as well as the identification of priority biological conservation areas, will satisfy this legislative mandate, and will be accomplished through an amendment to the St. George Field Office RMP.

Section 1977 (b)(1) of OPLMA, directed the BLM to develop a comprehensive travel management plan for public lands in Washington County. The St. George Field Office RMP must be amended to modify certain existing off-highway vehicle (OHV) area designations (open, limited or closed), to be in compliance with the Code of Federal Regulations (CFR) at 43 CFR 8340.0-5, (f), (g), and (h) respectively and 43 CFR 8342.1 (a-d) and related agency policies, before this comprehensive travel management plan can be developed.

Draft RMPs for the Beaver Dam Wash and Red Cliffs NCAs

The Draft RMPs/Draft EIS include goals, objectives, and management actions for conserving, protecting, and enhancing the natural and cultural resource values of the Beaver Dam Wash and Red Cliffs NCAs. Multiple resource uses are also addressed, including lands available for livestock grazing; recreation and visitor services; and management of lands and realty actions, including delineation of rights-of-way avoidance and exclusion areas. This planning effort considers the establishment of a trail management corridor for the congressionally-designated Old Spanish Trail National Historic Trail through the Beaver Dam Wash NCA.

The Draft RMPs/DEIS analyzes four alternatives for the long term management of resource values and land uses in the two NCAs. Alternative A is the No Action alternative and would continue management of the public lands under current goals, objectives, and management decisions from the 1999 St. George Field Office RMP, as modified by congressional designations pursuant to OPLMA.

Alternative B emphasizes resource protection while allowing land uses and developments that are consistent with the NCA purposes, current laws, regulations, and policies.

Management actions would strive to protect ecologically important areas, native vegetation communities, habitats for wildlife, including special status species, cultural resources, and the scenic qualities of each NCA from natural and human-caused impacts. Intensive management of land uses and authorizations would avoid or lessen resource impacts.

Alternative C emphasizes the conservation and protection of resource values and the restoration of damaged lands, through the use of native species. This alternative would also implement higher levels of restrictions on land uses and developments to achieve conservation objectives.

Alternative D emphasizes a broader array and higher level of public use and access, while still meeting the congressionally-defined purpose of conservation and protection of resource values and scenic qualities in the two NCAs. This alternative would provide the greatest management flexibility relating to land uses and authorizations.

Alternative B has been identified as the BLM's preferred alternative in the Draft RMPs/Draft EIS but does not represent the final agency direction for the two NCAs. The Proposed RMPs, developed as a result of public comment on the Draft RMPs, may include objectives and actions analyzed in the other alternatives and reflect changes or adjustments based on new information or changes in BLM policies or priorities.

Draft RMP Amendment

The Draft EIS also analyzes four alternatives to amend the St. George Field Office RMP to address biological conservation and travel management issues on public lands outside of the two NCAs.

Alternative A (No Action) would continue to manage public lands under the goals, objectives, and decisions of the St. George Field Office RMP. Eight existing ACECs would continue to be managed, under current management prescriptions from that RMP. Area designations for motorized vehicle travel would continue to manage a majority of the public lands as limited to existing roads and trails.

Alternative B (the BLM's preferred alternative) addresses biological conservation through the proposed designation of three new ACECs (South Hills (1,950 acres), State Line (1,410 acres), and Webb Hill (520 acres)) to provide special management for native plant and animal species and natural systems; 8 existing ACECs would be retained, with no changes to the current management prescriptions. A Bull Valley Multi-Species Management Area (87,031 acres) is identified as a priority biological conservation area and management decisions are proposed to protect wildlife habitats and migration corridors. This alternative includes a proposal to identify specific routes for motorized vehicle travel in the St. George Field Office planning area. Route designations and use-limitations will be further developed in a comprehensive travel management plan to be created after the record of decision for these RMPs has been signed.

Alternative C would emphasize the use of special designations to achieve the biological conservation objectives mandated by OPLMA. Under this alternative, 14 new ACECs are proposed for administrative designation: (Dalton Wash (14 acres), Grafton (47 acres), Harrisburg Bench (111 acres), Moody Wash (24 acres), Mosquito Cove (88 acres), North Creek (54 acres), Santa Clara River Baker (32 acres), Santa Clara River Veyo (16 acres), Scarecrow Peak (9,655 acres), Shinob Kibe (70 acres), South Hills (1,950 acres), State Line (1,410 acres), Virgin River (245 acres), and Webb Hill (520 acres)). Eight existing ACECs would be retained. A Bull Valley Multi-Species Management Area (87,031 acres) is identified as a priority biological conservation area and management decisions are proposed to protect wildlife habitats and migration corridors through exclusion of new rights-of-way and closure to fluid leasable and saleable minerals developments. This alternative includes a proposal to identify specific routes for motorized vehicle travel in the St. George Field Office planning area. Route designations and use-limitations will be further developed in a comprehensive travel management plan to be created after the record of decision for these RMPs has been signed.

Alternative D relies primarily on management decisions from the St. George RMP, current laws, regulations, and policies to satisfy OPLMA's legislative direction relating to biological conservation. No new ACECs would be designated and eight currently designated ACECs would be retained. A Bull Valley Multi-Species Management Area (87,031 acres) is identified for management as a priority biological conservation area and management decisions are proposed to protect wildlife habitats through management of 955 acres as a rights-of-way avoidance area. This alternative includes a proposal to identify specific routes for motorized vehicle travel in the St. George Field Office planning area. Route designations and use-limitations will be further developed in a comprehensive travel management plan to be created after the record of decision for these RMPs has been signed.

Pursuant to 43 CFR 1610.7-2(b), this notice announces a concurrent public comment period on proposed ACECs to protect plant and animal species and natural processes. The following management prescriptions may apply to the individual areas under consideration, if administratively designated as ACECs through the RMP amendment process: Retain public lands in federal ownership; avoid or exclude new rights-of-way; close to the harvesting of native seeds, plants, and plant materials for commercial purposes and personal use; close or place use constraints on fluid leasable and saleable mineral developments; close to dispersed camping and recreational target shooting; exclude competitive, commercial, and organized group events; protections via visual resource management class designation; and close or limit motorized travel to designated roads and trails.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Jenna Whitlock,
Acting State Director.

[FR Doc. 2015-17466 Filed 7-16-15; 8:45 am]

BILLING CODE 4310-DQ-P